DEPARTMENT OF AGRICULTURE

Agricultural Marketing Service

7 CFR Part 1222

[Doc. No. AMS-SC-23-0013]

Paper and Paper-Based Packaging Promotion, Research, and Information Order; Continuance Referendum

AGENCY: Agricultural Marketing Service, USDA.

ACTION: Notification of referendum.

SUMMARY: This document directs that a referendum be conducted among eligible domestic manufacturers and importers of paper and paper-based packaging to determine whether they favor continuance of the Agricultural Marketing Service's (AMS) regulations regarding a national paper and paper-based packaging research and promotion program.

DATES: This referendum will be conducted by express mail and electronic ballot from October 6, 2023, through October 20, 2023. To be eligible to vote, persons who are currently domestic manufacturers and importers and who domestically manufactured and imported 100,000 short tons or more of paper and paper-based packaging during the representative period from January 1 through December 31, 2022, are eligible to vote in the referendum. Ballots delivered to AMS via express mail or electronic ballot must show proof of delivery by no later than 11:59 p.m. Eastern Time on October 20, 2023.

ADDRESSES: Copies of the Paper and Paper-Based Packaging Promotion, Research, and Information Order may be obtained from: Referendum Agent, Market Development Division, Specialty Crops Program (SCP), AMS, USDA, 1400 Independence Avenue SW, Room 1406-S, Stop 0244, Washington, DC 20250-0244, telephone: (202) 720-8085 or contact Marlene Betts at (202) 494-6633 or via electronic mail: Marlene.Betts@usda.gov.

FOR FURTHER INFORMATION CONTACT: Marlene Betts, Marketing Specialist, Market Development Division, SCP, AMS, USDA, 1400 Independence Avenue SW, Room 1406-S, Stop 0244, Washington, DC 20250-0244; Marlene Betts (202) 494-6633 or via electronic mail: Marlene.Betts@usda.gov.

SUPPLEMENTARY INFORMATION: Pursuant to the Commodity Promotion, Research, and Information Act of 1996 (7 U.S.C. 7411-7425) (Act), it is hereby directed that a referendum be conducted to ascertain whether continuance of the Paper and Paper-Based Packaging Promotion, Research and Information Order (Order) (7 CFR part 1222) is favored by eligible domestic manufacturers and importers of paper and paper-based packaging covered under the program. The Order is authorized under the Act.

The representative period for establishing voter eligibility for the referendum shall be the period from January 1 through December 31, 2022. Persons who are currently domestic manufacturers and have domestically manufactured 100,000 short tons or more of paper and paper-based packaging and persons who are currently importers and have imported 100,000 short tons or more of paper and paper-based packaging, during the representative period are eligible to vote in the referendum. Persons who received an exemption from assessments pursuant to § 1222.53 for the entire representative period are ineligible to vote. The U.S. Department of Agriculture will provide the option for electronic balloting. The referendum will be conducted by express mail and electronic ballot from October 6 through October 20, 2023. Further details will be provided in the ballot instructions.

Section 518 of the Act (7 U.S.C. 7411-7425) authorizes continuance referenda. Under § 1222.81(b) of the Order, USDA must conduct a referendum no later than seven years after the program became effective and every seven years thereafter; at the request of the Board established in this Order; at the request of 10 percent or more of the number of persons eligible to vote in a referendum as set forth under the Order; or at any time as determined by the Secretary to determine if persons subject to assessment favor continuance of the program. The program was established in 2014 and the last referendum was held in September 2020. The Paper and Packaging Board (Board) unanimously voted at its November 2022 meeting to conduct a referendum in October 2023. Therefore, at the Board's request, a continuance referendum is being conducted before the next scheduled referendum. USDA would continue the Order if continuance is favored by a majority of domestic manufacturers and importers of paper and paper-based packaging voting in the referendum who also represent a majority of the volume of paper and paper-based packaging represented in the referendum and who, during the period of January 1 through December 31, 2022, have been engaged in the manufacturing and importation of paper and paper-based packaging.

In accordance with the Paperwork Reduction Act of 1995 (44 U.S.C. chapter 35), the referendum ballot has been approved by the Office of Management and Budget (OMB) and assigned OMB No. 0581-0093. It has been estimated that approximately 40 entities will be eligible to vote in the referendum. It will take an average of 15 minutes for each voter to read the voting instructions and complete the referendum ballot.

Referendum Order

Marlene Betts, Marketing Specialist, and Alexandra Caryl, Branch Chief, Mid-Atlantic Region Branch, Market Development Division, Specialty Crops Program, AMS, are hereby designated as the referendum agents to conduct this referendum. The referendum procedures at 7 CFR 1222.100 through 1222.108, which were issued pursuant to the Act, shall be used to conduct the referendum.

The referendum agents will express mail or provide electronically the ballots to be cast in the referendum and voting instructions to all known, eligible domestic manufacturers and importers prior to the first day of the voting period. Persons who are currently domestic manufacturers and importers and who domestically manufactured and imported 100,000 short tons or more of paper and paper-based packaging during the representative period are eligible to vote. Persons who received an exemption from assessments pursuant to § 1222.53 during the entire representative period from January 1 through December 31, 2022, are ineligible to vote. Any eligible domestic manufacturer or importer who does not receive a ballot should contact a referendum agent no later than three days before the end of the voting period. Ballots delivered via express mail or electronic ballot show proof of delivery by no later than 11:59 p.m. Eastern Time on October 20, 2023.

List of Subjects in 7 CFR Part 1222

Administrative practice and procedure, Advertising, Labeling, Marketing agreements, Reporting and recordkeeping requirements.

Authority: 7 U.S.C. 7411-7425; 7 U.S.C. 7401.

Erin Morris,
Associate Administrator, Agricultural Marketing Service.

[FR Doc. 2023-15826 Filed 7-25-23; 8:45 am]

BILLING CODE 3410-02-P